DEPARTMENT OF TRANSPORTATION

Federal Aviation Administration

14 CFR Part 71

[Docket No. FAA-2011-0078; Airspace Docket No. 10-AEA-20]

RIN 2120-AA66

Proposed Establishment of Helicopter Area Navigation (RNAV) Routes; Northeast United States

AGENCY: Federal Aviation Administration (FAA), DOT.

ACTION: Notice of proposed rulemaking (NPRM).

SUMMARY: This action proposes to introduce low altitude helicopter RNAV routes into the United States domestic Air Traffic Service (ATS) route structure to be used by suitably equipped helicopters having IFR-approved Global Positioning System (GPS)/Global Navigation Satellite System (GNSS) equipment. Additionally, the FAA is proposing to establish two such routes in the northeast corridor between the Washington, DC and New York City metropolitan areas. The FAA is proposing this action to enhance safety and to improve the efficient use of the navigable airspace for en route IFR helicopter operations.

DATES: Comments must be received on or before April 22, 2011.

ADDRESSES: Send comments on this proposal to the U.S. Department of Transportation, Docket Operations, M-30, 1200 New Jersey Avenue, SE., West Building Ground Floor, Room W12-140, Washington, DC 20590-0001; telephone: (202) 366-9826. You must identify FAA Docket No. FAA-2011-0078 and Airspace Docket No. 10-AEA-20 at the beginning of your comments. You may also submit comments through the Internet at http://www.regulations.gov.

FOR FURTHER INFORMATION CONTACT: Paul Gallant, Airspace, Regulations & ATC Procedures Group, Office of Airspace Services, Federal Aviation Administration, 800 Independence Avenue, SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2011-0078 and Airspace Docket No. 10-AEA-20) and be submitted in triplicate to the Docket Management System (see ADDRESSES section for address and phone number). You may also submit comments through the Internet at http://www.regulations.gov.

Commenters wishing the FAA to acknowledge receipt of their comments on this action must submit with those comments a self-addressed, stamped postcard on which the following statement is made: “Comments to FAA Docket No. FAA-2011-0078 and Airspace Docket No. 10-AEA-20.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/airports_airtraffic/air_traffic/publications/airspace_amendments.

You may review the public docket containing the proposal, any comments received and any final disposition in person in the Dockets Office (see ADDRESSES section for address and phone number) between 9 a.m. and 5 p.m., Monday through Friday, except Federal holidays. An informal docket may also be examined during normal business hours at the office of the Eastern Service Center, Operations Support Group, Federal Aviation Administration, Room 210, 1701 Columbia Ave., College Park, GA 30337.

Persons interested in being placed on a mailing list for future NPRMs should contact the FAA's Office of Rulemaking, (202) 267-9677, for a copy of Advisory Circular No. 11-2A, Notice of Proposed Rulemaking Distribution System, which describes the application procedure.

Background

Currently, there are no published, public-use, helicopter-specific IFR RNAV routes in the U.S. National Airspace System (NAS). Helicopter operator representatives have asked the FAA to develop such routes since helicopter flight performance characteristics differ significantly from high performance turboprop and turbojet aircraft. Additionally, published helicopter RNAV routes would increase the safety and efficiency of helicopter operations by affording pilots greater situational awareness and enabling more direct IFR routing. The proposed routes would also make available lower IFR altitudes, which could potentially help helicopters avoid icing conditions during winter operations. Further, TK routes would expand opportunities for helicopter operators to take advantage of developments in Performance Based Navigation technology. TK routes would be designated only within U.S. domestic airspace.

Helicopter RNAV Route Identification and Charting

The proposed helicopter RNAV routes would be identified by the prefix “TK” followed by a three digit number. The “T” prefix is one of several International Civil Aviation Organization (ICAO) designators used to identify domestic RNAV routes. “K” is an ICAO designator used to indicate routes primarily for use by helicopters. The FAA has been allocated the number block 501 through 650 for use in identifying U.S. TK routes.

As with the existing T routes, TK routes would be depicted in blue on the appropriate IFR en route low altitude chart(s). Each route depiction would include the route number along with a Global Navigation Satellite System (GNSS) Minimum Enroute Altitude (MEA) to ensure obstacle clearance and communications reception.

The Proposal

The FAA is proposing an amendment to Title 14, Code of Federal Regulations (14 CFR) part 71 that would establish the first two low altitude IFR helicopter RNAV Routes. The proposed routes would provide more direct routing for IFR helicopters in the northeast corridor between the New York City and Washington, DC, metropolitan areas. The routes would serve New York City, Philadelphia, Baltimore and Washington, DC area airports/heliports. The proposed routes would begin and end at points air traffic control uses for routing helicopters. The new helicopter RNAV routes, as described below, would be designated TK-502 and TK-504, and would be depicted on the appropriate IFR Enroute Low Altitude charts. Only RNAV-equipped helicopters capable of filing flight plan equipment suffix “G” could file for the TK routes. The TK routes are being proposed to enhance safety and to facilitate the more flexible and efficient use of the navigable airspace for en route IFR helicopter operations.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as required to preserve the safe and efficient flow of air traffic.

Environmental Review

The FAA has determined that this action qualifies for categorical exclusion under the National Environmental Policy Act in accordance with FAA Order 1050.1E, Environmental Impacts: Policies and Procedures, paragraph 311a. This airspace action is not expected to cause any potentially significant environmental impacts, and no extraordinary circumstances exist that warrant preparation of an environmental assessment.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9T, Airspace Designations and Reporting Points, dated August 18, 2010 and effective September 15, 2010, is amended as follows:

Paragraph 6012 Helicopter area navigation routes [new].

* * * * *

TK-502 Westminster (EMI), MD to DECKR, PA [New]

Westminster (EMI), MD VORTAC

(Lat. 39°29′42″ N., long. 76°58′43″ W.)

TAYLO, MD WP

(Lat. 39°39′48″ N., long. 76°27′43″ W.)

WINGO, PA WP

(Lat. 39°45′59″ N., long. 76°06′56″ W.)

SINON, PA WP

(Lat. 40°02′14″ N., long. 75°34′46″ W.)

GRIBL, PA WP

(Lat. 40°14′30″ N., long. 74°53′31″ W.)

TOLAN, NJ WP

(Lat. 40°21′58″ N., long. 74°25′23″ W.)

BALDE, NJ WP

(Lat. 40°28′42″ N., long. 74°11′33″ W.)

SPATE, NY WP

(Lat. 40°31′22″ N., long. 74°07′30″ W.)

DECKR, NY WP

(Lat. 40°39′07″ N., long. 74°02′42″ W.)

* * * * *

TK-504 RUSEY, MD to BANKA, NJ [New]

RUSEY, MD WP

(Lat. 39°16′07″ N., long. 76°11′19″ W.)

CIDOB, MD WP

(Lat. 39°25′47″ N., long. 75°58′43″ W.)

HAMOR, PA WP

(Lat. 39°51′21″ N., long. 75°47′17″ W.)

ARCUM, PA WP

(Lat. 40°01′26″ N., long. 75°20′54″ W.)

TULLY, PA WP

(Lat. 40°10′38″ N., long. 74°51′48″ W.)

BORKE, NJ WP

(Lat. 40°10′12″ N., long. 74°22′32″ W.)

BANKA, NJ WP

(Lat. 40°22′53″ N., long. 74°03′04″ W.)

Issued in Washington, DC, on March 2, 2011.
Rodger A. Dean,
Acting Manager, Airspace, Regulations and ATC Procedures Group.

[FR Doc. 2011-5251 Filed 3-7-11; 8:45 am]

BILLING CODE 4910-13-P